DEPARTMENT OF THE INTERIOR

Bureau of Land Management

[LLIDT03000-L14300000.FR0000; IDI-36299]

Notice of Realty Action: Recreation and Public Purposes Act Classification for Conveyance of Public Lands in Blaine County, ID

AGENCY: Bureau of Land Management.

ACTION: Notice of realty action.

SUMMARY: The Bureau of Land Management (BLM) has examined and found suitable for classification and conveyance under the provisions of the Recreation and Public Purposes Act (R&PP), as amended (43 U.S.C. 869 et seq.), approximately 242.72 acres of public land in Blaine County, Idaho. Blaine County, by and through the Blaine County Board of County Commissioners, has applied to acquire the land for expansion of the existing Ohio Gulch transfer station and also for recreational use.

DATES: Interested parties may submit written comments regarding the classification or conveyance of the public lands described in this notice by close of business on September 7, 2010.

ADDRESSES: Mail written comments concerning this Notice to Ruth A. Miller, Shoshone Field Manager, BLM, Shoshone Field Office, 400 West F Street, Shoshone, Idaho 83352.

FOR FURTHER INFORMATION CONTACT: Tara Hagen, Realty Specialist, at the above address or phone at (208) 732-7205.

SUPPLEMENTARY INFORMATION: Pursuant to regulations found at 43 CFR 2400.0-3(a) and in accordance with Section 7 of the Taylor Grazing Act (43 U.S.C. 315f), the following described public land in Blaine County, Idaho, has been examined and found suitable for classification and conveyance under the provisions of the R&PP Act, as amended (43 U.S.C. 869 et seq.). Classification under Section 7 of the Taylor Grazing Act is a prerequisite to the approval of all entries, selections, or locations under the R&PP Act. The area described contains 242.72 acres, more or less, in Blaine County. In accordance with the R&PP Act, Blaine County has filed an application for classification and conveyance of the following described public land for (1) expansion of the existing Ohio Gulch transfer station (60 acres), and (2) recreational use (182.72 acres):

Area 1—Transfer Station

Boise Meridian, Idaho

T. 3 N., R. 18 E.,

Sec. 15, W½E½NW¼, SE¼SW¼SW¼NW¼, S½SE¼SW¼NW¼.

The area described contains 60 acres.

Area 2—Recreation

Boise Meridian, Idaho

T. 3 N., R. 18 E.,

Sec. 10, lot 3, SE¼SW¼SE¼SW¼, SW¼SE¼SE¼SW¼, and E½SE¼SE¼SW¼;

Sec. 15, W½NE¼, E½E½NW¼, NW¼NW¼SW¼, and N½NW¼SW¼.

The area described contains 182.77 acres.

Both areas aggregate 242.72 acres, more or less.

Pursuant to the requirements established by section 120(h) of the Comprehensive Environmental Response, Compensation and Liability Act (42 U.S.C. 9620(h)) as amended by the Superfund Amendments and Reauthorization Act of 1988 (100 Stat. 1670), notice is hereby given that the above-described public land has been examined and no evidence was found to indicate that any hazardous substances have been stored for 1 year or more, nor had any hazardous substances been disposed of or released on the property.

The lands are not needed for Federal purposes and conveyance is in the public interest. The conveyance of this parcel of public land is consistent with the BLM Shoshone Field Office Sun Valley Management Framework Plan, approved by the BLM in 1981 and amended by the Amendments to Shoshone Field Office Land Use Plans for Land Tenure Adjustment and Areas of Critical Environmental Concern (Amendment) in 2003. According to the Amendment, the BLM prefers land disposal through R&PP Act patents to local or State governments because these entities are expected to provide long-term land management to meet the needs of the public. Blaine County meets this criterion, as its intent is to continue providing the existing recreational opportunities as well as to acquire public land to support infrastructure and extend community services.

The land will not be sold until at least 60 days after the date of publication of this notice in the Federal Register. Pursuant to the R&PP Act, permanent conveyances of land for recreation or historical monument purposes are made without charge to State and local governments. The special pricing schedule for land which will be government-controlled, used for government purposes, and serve the public (i.e. transfer stations) is $10 an acre, with a minimum price per conveyance of $50. The 60 acres to be used to expand the construction and demolition debris disposal area at the existing Ohio Gulch transfer station will be offered to Blaine County for $600.

Any patent issued to Blaine County will contain the following terms, conditions and reservations:

1. The patent is subject to the provisions of the R&PP Act and to all applicable regulations of the Secretary of the Interior;

2. A right-of-way is reserved for ditches and canals constructed by the authority of the United States, Act of August 30, 1890 (43 U.S.C. 945);

3. The patent is subject to valid existing rights. Subject to limitations prescribed by law and regulation, and prior to patent issuance, a holder of any right-of-way within the disposal area will be given the opportunity to amend the right-of-way for conversion to a new term, including perpetuity, if applicable;

4. The United States will maintain ownership of all minerals, together with the right to prospect for, mine, and remove such deposits from the same under applicable law and such regulations as the Secretary of the Interior may prescribe;

5. The patent is conditioned on the receipt of an appropriate indemnification clause protecting the United States from claims arising out of the patentee's use, occupancy, or operation of the premises; and

6. Any other terms and conditions deemed necessary or appropriate by the Authorized Officer.

With respect to the 60 acres to be used for the transfer station expansion, the following additional provisions will be required:

a. The patentee shall comply with all Federal and State laws applicable to the disposal, placement, or release of hazardous substances.

b. The patentee shall indemnify and hold harmless the United States against any legal liability or future costs that may arise out of any violations of such laws.

c. The land conveyed to the County shall revert to the United States unless substantially used in accordance with an approved plan and schedule of development on or before the day 5 years after the date of conveyance. However, no portion of the property shall revert to the United States under any circumstances if such portion has been used for solid waste disposal or for any other purpose that the authorized officer determines may result in the disposal, placement, or release of any hazardous substance.

d. If, at any time, the patentee transfers to another party ownership of any portion of the land not used for the purpose specified in the application and the approved plan of development, the patentee shall pay the BLM the fair market value, as determined by the authorized officer, of the transferred portion as of the date of transfer, including the value of any improvements thereon.

With respect to the 182.72 acres that will be used for public recreation purposes, the following additional provisions will be required:

a. Title to the property shall revert to the United States upon a finding, after notice and opportunity for a hearing, that, without the approval of the authorized officer:

(1) The patentee or its approved successor is attempting to transfer title to or control over the lands to another;

(2) The lands have been devoted to a use other than that for which the lands were conveyed;

(3) The lands have not been used for the purpose for which they were conveyed for a 5-year period; or

(4) The patentee has failed to follow the approved development plan or management plan.

b. The Secretary of the Interior may take action to revest title in the United States if the patentee directly or indirectly permits his agents, employees, contractors, or subcontractors (including lessees, sublessees, and permittees) to prohibit or restrict the use of any part of the patented lands or any of the facilities thereon by any person because of such person's race, creed, color, sex or national origin.

On July 23, 2010, the above-described public land will be segregated from all other forms of appropriation under the public land laws, including the general mining laws, except for conveyance under the R&PP Act, leasing under the mineral leasing laws, and disposals under the mineral material disposal laws. The segregative effect will terminate upon issuance of a patent or publication in the Federal Register of a termination of the segregation.

Detailed information concerning the proposed conveyance, including the planning and environmental documents are available for review at the BLM Shoshone Field Office at the location identified in ADDRESSES above. Normal business hours are 7:45 a.m. to 4:30 p.m., Monday through Friday, except for Federal holidays.

Public Comments: Interested parties may submit comments involving the suitability of the land for (1) Expansion of the existing Ohio Gulch transfer station; and (2) Recreation. Comments on the classification should be limited to whether the land is physically suited for the proposal, whether the use will maximize the future use or uses of the land, whether the use is consistent with local planning and zoning, or whether the use is consistent with State and Federal programs.

Interested parties may also submit comments regarding other proposed decisions for the R&PP Act application and plan of development, whether the BLM followed proper administrative procedures in reaching the decision to convey the described public land under the R&PP Act, or any other factor not directly related to the suitability of the land for recreation and public purposes.

Only written comments submitted via the U.S. Postal Service or other delivery services or hand-delivered to the BLM Shoshone Field Manager (see ADDRESSES above) on or before September 7, 2010 will be considered properly filed. Electronic mail, facsimile, or telephone comments will not be considered properly filed.

Comments, including names and street addresses of respondents, will be available for public review at the BLM Shoshone Field Office during regular business hours, except holidays. Before including your address, phone number, e-mail address, or other personal identifying information in your comment, you should be aware that your entire comment—including your personal identifying information—may be made publicly available at any time. While you can ask us in your comment to withhold your personal identifying information from public review, we cannot guarantee that we will be able to do so.

Any adverse comments will be reviewed by the BLM Idaho State Director. In the absence of any adverse comments, the classification of the land described in this notice will become effective on September 21, 2010. The land will not be available for conveyance until after the classification becomes effective.

Authority: 43 CFR 2741.5.

Ruth A. Miller,
Shoshone Field Manager.

[FR Doc. 2010-18047 Filed 7-22-10; 8:45 am]

BILLING CODE 4310-GG-P